DEPARTMENT OF LABOR

Employment and Training Administration

[TA-W-73,963]

Dentek.com, D/B/A Nsequence Center for Advanced Dentistry; Reno, NV; Notice of Affirmative Determination Regarding Application for Reconsideration

By application dated July 16, 2010, a petitioner requested administrative reconsideration of the negative determination regarding workers' eligibility to apply for Trade Adjustment Assistance (TAA) applicable to workers and former workers of the subject firm. The determination was issued on June 22, 2010. The Department's Notice of Determination was published in the Federal Register on July 7, 2010 (75 FR 39049). Workers are engaged in employment related to the production of dental prosthetics.

The initial determination was based on the findings that worker separations are not attributable to increased imports of articles like or directly competitive with dental prosthetics or a shift/acquisition of these articles to a foreign country by the workers' firm.

In the request for reconsideration, the petitioner provided additional information regarding company imports and operations.

The Department has carefully reviewed the request for reconsideration and the existing record and has determined that the Department will conduct further investigation to determine if the workers meet the eligibility requirements of the Trade Act of 1974, as amended.

Conclusion

After careful review of the application, I conclude that the claim is of sufficient weight to justify reconsideration of the U.S. Department of Labor's prior decision. The application is, therefore, granted.

Signed at Washington, DC, this 13th day of August, 2010.
Del Min Amy Chen,
Certifying Officer, Office of Trade Adjustment Assistance.

[FR Doc. 2010-28491 Filed 11-10-10; 8:45 am]

BILLING CODE 4510-FN-P